DEPARTMENT OF COMMERCE

National Oceanic and Atmospheric Administration

RIN: 0648-XZ52

South Atlantic Fishery Management Council; Public Hearings

AGENCY: National Marine Fisheries Service (NMFS), National Oceanic and Atmospheric Administration, Commerce.

ACTION: Notice of public hearings.

SUMMARY: The South Atlantic Fishery Management Council (Council) will hold a series of public hearings regarding Amendment 18A to the Snapper Grouper Fishery Management Plan (FMP) for the South Atlantic. See SUPPLEMENTARY INFORMATION.

DATES: A series of 3 public hearings will be held October 25 through October 27, 2010. The hearings will be open from 4 p.m. until 7 p.m. Members of the public will have an opportunity to go on record at any time during the meeting hours to record their comments on the public hearing topics for Council consideration. Written comments will be received in the South Atlantic Council's office until 5 p.m. on November 12, 2010. See SUPPLEMENTARY INFORMATION.

SUPPLEMENTARY INFORMATION: Amendment 18A to the Snapper Grouper FMP contains the following management actions: (1) Limit participation in the golden tilefish fishery through an endorsement program, (2) allocate commercial golden tilefish quota between gear groups, (3) establish criteria for transferability of golden tilefish endorsements, (4) change the commercial golden tilefish fishing year, (5) change the golden tilefish commercial trip limit, (6) establish trip limits for commercial fishermen who do not receive and endorsement in the golden tilefish fishery, (7) modify the commercial black sea bass fishery to limit participation and effort and reduce bycatch, and (8) improve the accuracy, timing, and quality of fisheries data.

Hearing Dates and Locations

The public hearings will be held at the following locations:

1. October 25, 2010—Hilton New Bern Riverfront, 100 Middle Street, New Bern, NC 28562, telephone: (252) 638-3585;

2. October 26, 2010—Hilton Garden Inn, 5265 International Blvd., North Charleston, SC 29418, telephone: (843) 308-9330;

3. October 27, 2010—Hampton Inn Daytona Speedway, 1715 W. International Speedway Boulevard, Daytona Beach, FL 32114, telephone: (386) 257-4030.

ADDRESSES: Written comments should be sent to Bob Mahood, Executive Director, South Atlantic Fishery Management Council, 4055 Faber Place Drive, Suite 201, North Charleston, SC 29405, or via e-mail to: SGAmend18Acomments@safmc.net.

Written comments must be received in the South Atlantic Council's office by 5 p.m. on November 12, 2010.

Copies of the public hearing document are available from Kim Iverson, Public Information Officer, South Atlantic Fishery Management Council, 4055 Faber Place Drive, Suite 201, North Charleston, SC 29405; telephone: (843) 571-4366 or toll free at (866) SAFMC-10. Copies will also be available online at http://www.safmc.net as they become available.

FOR FURTHER INFORMATION CONTACT: Kim Iverson, South Atlantic Fishery Management Council, 4055 Faber Place Drive, Suite 201, North Charleston, SC 29405; telephone: (843) 571-4366; fax: (843) 769-4520; e-mail address: kim.iverson@safmc.net.

Special Accommodations

These hearings are physically accessible to people with disabilities. Requests for sign language interpretation or other auxiliary aids should be directed to the Council office (see ADDRESSES) 3 days prior to the start of each hearing.

Dated: October 5, 2010.
Tracey L. Thompson,
Acting Director, Office of Sustainable Fisheries, National Marine Fisheries Service.

[FR Doc. 2010-25376 Filed 10-7-10; 8:45 am]

BILLING CODE 3510-22-P